DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before November 29, 2024.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on November 5, 2024.
Donald P. Burger,
Chief, General Approvals and Permits Branch.

Special Permits Data
Application No. | Applicant | Regulation(s) affected | Nature of the special permits thereof
7945-M | Meggitt Safety Systems, Inc | 173.304a(a)(1) | To modify the special permit to authorize additional cylinder marking methods. (modes 1, 2, 3, 4, 5).
11911-M | Transfer Flow, Inc | 177.834(h), 178.700(c)(1) | To modify paragraph 7.c.(2)(iii) of the special permit to authorize the pump hose and nozzle to be secured to the tank or truck bed. (mode 1).
14951-M | Hexagon Lincoln, LLC | 173.301(f), 173.302(a) | To modify the special permit to authorize a modified service life extension program. (modes 1, 2, 3).
15797-M | Joyson Safety Systems Acquisition LLC | 173.56(b) | To modify the special permit to authorize the testing of counterfeit safety devices at testing laboratories. (mode 1).
15980-M | Windward Aviation Inc | 172.400, 172.200, 172.300, 173.1, 173.27, 175.33, 175.75 | To modify the special permit to authorize FAA Part 135 operations and additional hazardous materials. (mode 4).
16518-M | Midwest Helicopter Airways | 172.301(c), 175.333 | To modify the special permit to authorize, UN3161, Refrigerant R-454B to be transported under the terms of the special permit. (mode 4).
21428-M | LiveWire EV LLC | 172.101(j), 173.220(d), 173.185(a)(1) | To modify the special permit to authorize lithium ion batteries each with a net weight greater than 35 kg aboard cargo-only aircraft. (mode 4).
21546-M | Space Exploration Technologies Corp | 172.400, 172.300(a), 172.300, 172.101(k)(7), 176.63(b), 176.178(b), 176.180, 176.182(g), 176.190, 176.116(e), 176.116(e)(1), 176.138(b), 176.138, 176.164(b), 176.164(e), 176.164 | To modify the special permit by updating the designated splashdown locations to the Pacific Ocean, the designated unloading port to Long Beach, CA and road transport by a SpaceX operated motor vehicle from the port to Area 59, Cape Canaveral Space Force Station, FL or Hawthorne, CA. (modes 1, 3).
21708-M | Loft Orbital Solutions Inc | 173.27(b)(2), 173.301(f), 173.302a, 173.304a, 171.23(a)(2)(iv) | To modify the special permit authorization letter to authorize transportation aboard aircraft and cargo vessel. (modes 1, 2, 3, 4).
21733-M | Cirkul, Inc | 171.2(k), 172.700(a), 172.202(a)(5)(iii)(B) | To modify the special permit to authorize alternative training and hazard communication. (modes 1, 2).

[FR Doc. 2024-26389 Filed 11-13-24; 8:45 am]

BILLING CODE P